DEPARTMENT OF TRANSPORTATION

Federal Motor Carrier Safety Administration

[Docket No. FMCSA-2015-0480]

Commercial Driver's License Standards: Application for Exemption Renewal; CRST The Transportation Solution (Formerly Known as CRST Expedited, Inc.)

AGENCY: Federal Motor Carrier Safety Administration (FMCSA), Department of Transportation (DOT).

ACTION: Notice of final exemption renewal; renewal of exemption.

SUMMARY: FMCSA announces its decision to renew the exemption currently held by CRST The Transportation Solution (CRST) (formerly known as CRST Expedited, Inc.) from the requirement that a commercial driver's license (CDL) holder with the proper CDL class and endorsements be seated in the front seat of the commercial motor vehicle (CMV) at all times while the commercial learner's permit (CLP) holder is engaged in behind-the-wheel training on public roads or highways. FMCSA announced its decision to provisionally renew CRST's exemption on August 7, 2023, pending a review of any comments received in response to that notice. Two comments opposing the exemption were submitted to the docket and are discussed below. The Agency believes that CRST and its drivers covered by the exemption will maintain a level of safety that is equivalent to, or greater than, the level of safety that would be achieved by complying with the regulatory requirement.

DATES: This renewed exemption was effective September 24, 2023, and expires on September 24, 2028.

FOR FURTHER INFORMATION CONTACT: Mrs. Pearlie Robinson, Driver and Carrier Operations Division; Office of Carrier, Driver and Vehicle Safety Standards, FMCSA; 202-366-4225; pearlie.robinson@dot.gov. If you have questions on viewing or submitting material to the docket, contact Dockets Operations, (202) 366-9826.

SUPPLEMENTARY INFORMATION:

I. Public Participation

Viewing Comments and Documents

To view comments, go to www.regulations.gov, insert the docket number “FMCSA-2015-0480” in the keyword box, and click “Search.” Next, sort the results by “Posted (Newer-Older),” choose the first notice listed, and click “Browse Comments.”

To view documents mentioned in this notice as being available in the docket, go to www.regulations.gov, insert the docket number “FMCSA-2015-0480” in the keyword box, click “Search,” and choose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b)(2), and 49 CFR 381.300(b), to renew an exemption from the FMCSA regulations specified in 49 CFR 381.300(c) for up to 5 years, if it finds that “such exemption would likely achieve a level of safety that is equivalent to, or greater than, the level that would be achieved absent such exemption.” (49 U.S.C. 31315(b)(1)). On August 7, 2023, FMCSA evaluated CRST's application and provisionally renewed the exemption from 49 CFR 383.25(a)(1) for a five-year period, from September 24, 2023, through September 24, 2028 (88 FR 52241).

III. Background

Current Regulatory Requirements

FMCSA's CDL regulations in 49 CFR 383.25 establish minimum requirements for a CLP to be considered a valid CDL during behind-the-wheel training of a CLP holder on public roads or highways. Section 383.25(a)(1) requires a CDL holder with the proper CDL class and endorsements necessary to operate the CMV to accompany a CLP holder and be physically present in the front seat of the CMV next to the CLP holder at all times or, in a commercial passenger vehicle, directly behind or in the front row behind the driver and must have the CLP holder under observation and direct supervision.

IV. Application for Renewal of Exemption

CRST requested a second renewal of an exemption from the CDL requirements in 49 CFR 383.25(a)(1). Under the exemption, a CLP holder who has passed the skills test but not yet received the CDL document may drive a CMV accompanied by a CDL holder who is not necessarily in the passenger seat, provided the CLP driver possesses documentation of passing the skills test from the State that administered the test.

V. Public Comments

On August 7, 2023, FMCSA published its decision to provisionally grant a five-year renewal of CRST's original exemption, through September 24, 2028, and asked for public comment (88 FR 52241). Two comments were submitted to the docket, both opposed to the exemption renewal.

An anonymous individual said, “Do not allow rookie drivers on the road. This is killing and injuring many people. Inside Edition did a report on the increase of trucking deaths from drivers without much experience. CRST wants to make money without any accountability on the experience level of their drivers. When will our government put people over profits?”

A joint comment was filed by the Truck Safety Coalition, Citizens for Reliable and Safe Highways, and Parents Against Tired Truckers. In the joint comment, the organizations contended that CRST has never demonstrated that the exemption met the equivalent level of safety requirements under 49 U.S.C. 31136(e) and 31315(b)(2) and therefore the exemption should never have been granted. The commenters also asserted that the exemption undermines the safety benefits provided by the direct supervision of a CDL holder and, moreover, that CRST's publicly available safety and inspection data “does not inspire confidence.”

VI. Response to Public Comments and Agency Decision

The main premise of commenters opposing the exemption is that CLP holders lack experience and are safer drivers when directly observed by a CDL holder who is on duty and in the front seat of the vehicle. FMCSA notes, however, that CLP holders who have passed the CDL skills test have demonstrated their abilities to safely operate the CMV. The exemption therefore applies only to CRST drivers who have completed required entry-level driver training requirements, set forth in 49 CFR part 380, subpart F, and passed the CDL skills test. If these CLP holders had passed the skills test in their State of domicile, they could immediately obtain their CDL or temporary CDL and begin driving CMVs without any on-board supervision. Drivers who have passed the CDL skills test outside their State of domicile must obtain the physical CDL credential from their State of domicile. The exemption permits these individuals who are employed by CRST to work productively as team CMV drivers during the period between passing the skills test and receiving their CDL, without requiring the accompanying CDL holders to be on duty and in the front seat.

In response to the comment regarding CRST's safety record, the Agency believes that CRST's overall safety performance, as reflected in its “satisfactory” safety rating, will enable it to maintain a level of safety that is equivalent to, or greater than, the level of safety achieved without the exemption (49 CFR 381.305(a)). The specific basis for the Agency's conclusions on the safety equivalence of operations conducted under this exemption are set forth in FMCSA's August 7, 2023, provisional renewal Notice, referenced above.

Sue Lawless,
Acting Deputy Administrator.

[FR Doc. 2024-10540 Filed 5-13-24; 8:45 am]

BILLING CODE 4910-EX-P